DEPARTMENT OF COMMERCE

International Trade Administration

U.S. Hydrogen Industry Roundtable

AGENCY: International Trade Administration.

ACTION: Notice of a roundtable discussion on challenges and opportunities for strengthening the supply chain and export competitiveness of the U.S. hydrogen industry.

SUMMARY: Through this notice, the International Trade Administration (ITA) of the Department of Commerce announces a roundtable discussion with U.S. industry representatives and U.S. government officials. ITA invites applications from a wide array of industry representatives to participate in the roundtable, ranging from existing manufacturers of goods and providers of services to prospective new market entrants. Participants will have products that are or will be produced in the United States along the hydrogen value chain.

DATES:

Event: The roundtable will be held in a virtual format on June 29, 2023 from 1 p.m. to 4 p.m., eastern daylight time.

Event Registration: ITA will evaluate registrations based on the submitted information (see below) and inform applicants of selection decisions, which will be made on a rolling basis until 25 participants have been selected.

ADDRESSES: Event: The roundtable will be held via WebEx and the link for the meeting will be provided to registered participants.

FOR FURTHER INFORMATION CONTACT: Maureen Clapper, Senior Advisor, ITA, at or Charles Saad, Clean Technology Trade Specialist, at Hydrogen.Economy@trade.gov.

SUPPLEMENTARY INFORMATION: The International Renewable Energy Agency (IRENA) estimates that, as of 2021, only 1% of global hydrogen output was produced with low greenhouse gas emission methods. To meet the most ambitious climate goals, including those set forth in Executive Order 14008 (“Tackling the Climate Crisis at Home and Abroad,” January 27, 2021), the use of renewable and low carbon hydrogen would need to scale dramatically. The United States holds several unique advantages that give it the potential to become a powerhouse in the global hydrogen industry, with domestic hydrogen deployment already expected to grow substantially. Despite this strong domestic capacity for hydrogen production, U.S. firms may face export competitive challenges and market access issues. The Hydrogen Council's October 2022 report, Global Hydrogen Flows, draws attention to the need for “development of mutually recognized robust and tradeable certification schemes for hydrogen.”

ITA seeks individual company input and views at the June 29, 2023 roundtable regarding the hydrogen industry value chain, including on the following topics:

• The current state of upstream manufacturing for hydrogen in the United States, including electrolyzers, fuel cells, compressors, storage tanks, and other related and enabling equipment;

• Supply chain constraints, including with respect to platinum group metals or interconnection with the electrical grid;

• The potential contribution of U.S. hydrogen producers towards the Biden Administration's overarching clean energy goals as set out in Executive Order 14008 “Tackling the Climate Crisis at Home and Abroad” (January 27, 2021);

• Challenges facing the hydrogen industry, including those that may inhibit the export competitiveness of products derived by the U.S. hydrogen industry value chain;

• How to help ensure that the build out of the hydrogen economy, with an emphasis on hydrogen production, proceeds apace while mitigating carbon emissions; and

• Company expectations on industry readiness for exports, including any potential challenges or obstacles.

The event is closed to press and public. Industry participation is limited to 25 qualifying company representatives. Officials from the Department of Energy, Department of State, and other relevant agencies will also be invited to participate in the discussion.

Selection

Company representatives interested in applying to attend the roundtable should submit the below information to Hydrogen.Economy@trade.gov by no later than June 23, 2023. ITA will evaluate applications based on the submitted information (and based on the criteria below) on a rolling basis until 25 participants have been selected and inform applicants of selection decisions.

Participants should be at a sufficiently senior level to be knowledgeable about their company's capabilities, interests, growth objectives, and challenges with respect to production of clean hydrogen within the U.S. hydrogen value chain. Each selected participant may invite one additional person from their company as a non-participating observer. This will be administered by reaching out before the roundtable using provided contact information to request participants submit information about their observer.

Applicants should include the following information in their request to attend the roundtable:

• Name of proposed attendee and short bio;

• Name of company and brief company description; and

• A statement self-certifying the following criteria:

1. The company is not majority owned by a foreign government entity (or entities).

2. The company is an existing manufacturer, provider of services, or prospective market entrant with products or services that are or will be produced in the United States.

3. The representative will be able to attend the entire roundtable.

Selection will be based on the following criteria:

• Suitability of company's products and service offerings in the existing hydrogen industry value chain;

• Suitability of the company's experience in manufacturing in the United States;

• Suitability, based on the representative's position and biography, to be able to meaningfully engage in the conversation; and

• Ability of the company to contribute to the roundtable's purpose of seeking individual input and views on the United States hydrogen industry value chain.

Consideration will also be given to whether an applicant company may have conflicting interests or whether its selection could hinder the overall effectiveness of the roundtable.

Dated: June 7, 2023.
Man K. Cho,
Deputy Director, Office of Energy and Environmental Industries.

[FR Doc. 2023-12590 Filed 6-12-23; 8:45 am]

BILLING CODE 3510-DR-P